DEPARTMENT OF HEALTH AND HUMAN SERVICES

National Committee on Vital and Health Statistics: Meeting

Pursuant to the Federal Advisory Committee Act, the Department of Health and Human Services announces the following advisory committee meeting.

Name: National Committee on Vital and Health Statistics (NCVHS).

Time and Date: Tuesday, June 20, 2000, 9 a.m.-Noon EDT; Wednesday, June 21, 2000, 9:15 a.m.-5:00 p.m. EDT.

Place: Hubert H. Humphrey Building, Conference Room 705A, 200 Independence Avenue S.W., Washington, DC.

Status: Open.

Purpose: On the first day of this two day meeting, the full Committee will discuss the draft Report on Uniform Data Standards for Patient Medical Record Information as prepared by the Subcommittee on Standards and Security. They will then hear a presentation on a National Research Council report entitled: Networking Health: Prescriptions for the Internet. On the second day the Committee will hear updates on a variety of topics from staff of the Department of Health and Human Services and a presentation on digital signatures. The afternoon's agenda will consist of Subcommittee working sessions and followed by status reports from the Subcommittees to the full Committee.

Notice: In the interest of security, the Department has instituted stringent procedures for entrance to the Hubert H. Humphrey building by non-government employees. Persons without a government identification card may need to have the guard call for an escort to the meeting.

Contact Person for more Information: Substantive program information as well as summaries of meetings and a roster of committee members may be obtained from Marjorie S. Greenberg, Executive Secretary NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/, where further information will be posted when available.

Dated: May 26, 2000.
James Scanlon,
Director, Division of Data Policy, Office of the Assistant Secretary for Planning and Evaluation.

[FR Doc. 00-14083 Filed 6-5-00; 8:45 am]

BILLING CODE 4151-05-M